FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012366.

Title: MOL/NMCC/WLS and NYK Space Charter Agreement.

Parties: Mitsui O.S.K. Lines, Ltd; Nissan Motor Car Carrier Co., Ltd.; World Logistics Service (U.S.A.), Inc.; and NYK Line (N.A.), Inc.

Filing Party: Eric. C. Jeffrey, Esq.; Nixon Peabody LLP; 799 9th Street NW., Suite 500, Washington, DC 20001.

Synopsis: The agreement would authorize the parties to charter space to/from one another for the carriage of vehicles and other Ro/Ro cargo in the trade between the U.S. and all foreign countries.

Agreement No.: 012367.

Title: MSC/Maersk Line Trans-Atlantic Space Charter Agreement.

Parties: Maersk Line A/S and MSC Mediterranean Shipping Company S.A.

Filing Party: Wayne R. Rohde, Esq.; Cozen O'Conner; 1200 19th Street NW., Washington, DC 20036.

Synopsis: The agreement authorizes MSC to charter space to Maersk in the trade from Bremerhaven, Germany and Rotterdam, the Netherlands to the Port of New York/New Jersey.

Agreement No.: 012368.

Title: Hybur Ltd./Crowley Space Charter Agreement.

Parties: Hybur Ltd. and Crowley Caribbean Services, LLC.

Filing Party: Wayne R. Rohde, Esq.; Cozen O'Conner; 1200 19th Street NW., Washington, DC 20036.

Synopsis: The agreement authorizes Hybur to charter space to Crowley in the trade between Port Everglades, FL and George Town, Grand Cayman.

By Order of the Federal Maritime Commission.
Dated: October 30, 2015.
Rachel E. Dickon,
Assistant Secretary.

[FR Doc. 2015-28132 Filed 11-4-15; 8:45 am]

BILLING CODE 6731-AA-P